DEPARTMENT OF ENERGY

Federal Energy Regulatory Commission

Combined Notice of Filings

Take notice that the Commission has received the following Natural Gas and Oil Pipeline Rate and Refund Report filings:

Filings Instituting Proceedings

Docket Numbers: RP24-80-000.

Applicants: Millennium Pipeline Company, LLC.

Description: § 4(d) Rate Filing: Negotiated Rate Agmts, Eff. 11.1.23 to be effective 11/1/2023.

Filed Date: 10/30/23.

Accession Number: 20231030-5177.

Comment Date: 5 p.m. ET 11/13/23.

Docket Numbers: RP24-81-000.

Applicants: Transcontinental Gas Pipe Line Company, LLC.

Description: § 4(d) Rate Filing: Non-Conforming—Adelphia West Ridge Interconnect—2023 to be effective 12/1/2023.

Filed Date: 10/30/23.

Accession Number: 20231030-5194.

Comment Date: 5 p.m. ET 11/13/23.

Docket Numbers: RP24-82-000.

Applicants: Texas Eastern Transmission, LP.

Description: § 4(d) Rate Filing: TETLP PCB DEC 2023 Filing to be effective 12/1/2023.

Filed Date: 10/30/23.

Accession Number: 20231030-5207.

Comment Date: 5 p.m. ET 11/13/23.

Docket Numbers: RP24-83-000.

Applicants: Equitrans, L.P.

Description: § 4(d) Rate Filing: Negotiated Rate Agreements—11/1/2023 to be effective 11/1/2023.

Filed Date: 10/31/23.

Accession Number: 20231031-5001.

Comment Date: 5 p.m. ET 11/13/23.

Docket Numbers: RP24-84-000.

Applicants: Algonquin Gas Transmission, LLC.

Description: § 4(d) Rate Filing: AGT FRQ 2023 Filing to be effective 12/1/2023.

Filed Date: 10/31/23.

Accession Number: 20231031-5008.

Comment Date: 5 p.m. ET 11/13/23.

Docket Numbers: RP24-85-000.

Applicants: Fayetteville Express Pipeline LLC.

Description: Compliance filing: Fuel Filing on 10-31-23 to be effective N/A.

Filed Date: 10/31/23.

Accession Number: 20231031-5018.

Comment Date: 5 p.m. ET 11/13/23.

Docket Numbers: RP24-86-000.

Applicants: ETC Tiger Pipeline, LLC.

Description: § 4(d) Rate Filing: Fuel Filing on 10-31-23 to be effective 12/1/2023.

Filed Date: 10/31/23.

Accession Number: 20231031-5026.

Comment Date: 5 p.m. ET 11/13/23.

Docket Numbers: RP24-87-000.

Applicants: Trunkline Gas Company, LLC.

Description: Compliance filing: Annual Interruptible Storage Revenue Credit filed 10-31-23 to be effective N/A.

Filed Date: 10/31/23.

Accession Number: 20231031-5031.

Comment Date: 5 p.m. ET 11/13/23.

Docket Numbers: RP24-88-000.

Applicants: Kern River Gas Transmission Company.

Description: § 4(d) Rate Filing: 2023 World Fuels Contract 1908 Amendment Filing to be effective 11/1/2023.

Filed Date: 10/31/23.

Accession Number: 20231031-5058.

Comment Date: 5 p.m. ET 11/13/23.

Docket Numbers: RP24-89-000.

Applicants: Trunkline Gas Company, LLC.

Description: § 4(d) Rate Filing: Negotiated Rate Filing—17 (NextEra Energy & Ford) to be effective 11/1/2023.

Filed Date: 10/31/23.

Accession Number: 20231031-5066.

Comment Date: 5 p.m. ET 11/13/23.

Docket Numbers: RP24-90-000.

Applicants: El Paso Natural Gas Company, L.L.C.

Description: § 4(d) Rate Filing: Non-Conforming Agreement Update (Sterling) to be effective 11/1/2023.

Filed Date: 10/31/23.

Accession Number: 20231031-5071.

Comment Date: 5 p.m. ET 11/13/23.

Docket Numbers: RP24-91-000.

Applicants: Tennessee Gas Pipeline Company, L.L.C.

Description: § 4(d) Rate Filing: Non-Conforming Agreement Filing (TC Energy 382826) to be effective 11/1/2023.

Filed Date: 10/31/23.

Accession Number: 20231031-5082.

Comment Date: 5 p.m. ET 11/13/23.

Docket Numbers: RP24-92-000.

Applicants: Rockies Express Pipeline LLC.

Description: § 4(d) Rate Filing: REX 2023-10-31 System Map URL to be effective 12/1/2023.

Filed Date: 10/31/23.

Accession Number: 20231031-5101.

Comment Date: 5 p.m. ET 11/13/23.

Docket Numbers: RP24-93-000.

Applicants: Tallgrass Interstate Gas Transmission, LLC.

Description: § 4(d) Rate Filing: TIGT 2023-10-31 System Map URL to be effective 12/1/2023.

Filed Date: 10/31/23.

Accession Number: 20231031-5108.

Comment Date: 5 p.m. ET 11/13/23.

Docket Numbers: RP24-94-000.

Applicants: Trailblazer Pipeline Company LLC.

Description: § 4(d) Rate Filing: TPC 2023-10-31 System Map URL to be effective 12/1/2023.

Filed Date: 10/31/23.

Accession Number: 20231031-5109.

Comment Date: 5 p.m. ET 11/13/23.

Docket Numbers: RP24-95-000.

Applicants: Tennessee Gas Pipeline Company, L.L.C.

Description: § 4(d) Rate Filing: Negotiated Rate Agreement (Con Ed 389644) to be effective 11/1/2023.

Filed Date: 10/31/23.

Accession Number: 20231031-5114.

Comment Date: 5 p.m. ET 11/13/23.

Docket Numbers: RP24-96-000.

Applicants: Texas Gas Transmission, LLC.

Description: § 4(d) Rate Filing: Cap Rel Neg Rate Agmt (Jay-Bee 34446 to Spotlight 54357) to be effective 11/1/2023.

Filed Date: 10/31/23.

Accession Number: 20231031-5118.

Comment Date: 5 p.m. ET 11/13/23.

Docket Numbers: RP24-97-000.

Applicants: Texas Gas Transmission, LLC.

Description: § 4(d) Rate Filing: Cap Rel Neg Rate Agmts (SABIC 35304,35303, 35305 to CIMA 57386,57387,57384) to be effective 11/1/2023.

Filed Date: 10/31/23.

Accession Number: 20231031-5122.

Comment Date: 5 p.m. ET 11/13/23.

Docket Numbers: RP24-98-000.

Applicants: Destin Pipeline Company, L.L.C.

Description: Compliance filing: Destin Pipeline Annual Fuel Retention Adjustment to be effective N/A.

Filed Date: 10/31/23.

Accession Number: 20231031-5125.

Comment Date: 5 p.m. ET 11/13/23.

Docket Numbers: RP24-99-000.

Applicants: Wyoming Interstate Company, L.L.C.

Description: § 4(d) Rate Filing: Fuel_LU Quarterly Update Filing Eff Dec 2023 to be effective 12/1/2023.

Filed Date: 10/31/23.

Accession Number: 20231031-5128.

Comment Date: 5 p.m. ET 11/13/23.

Docket Numbers: RP24-100-000.

Applicants: Texas Eastern Transmission, LP.

Description: § 4(d) Rate Filing: Negotiated Rates—Con Ed 910950 Releases 11-01-23 to be effective 11/1/2023.

Filed Date: 10/31/23.

Accession Number: 20231031-5150.

Comment Date: 5 p.m. ET 11/13/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP22-1033-005.

Applicants: Northern Natural Gas Company.

Description: Refund Report: 20231031 Refund Report to be effective N/A.

Filed Date: 10/31/23.

Accession Number: 20231031-5115.

Comment Date: 5 p.m. ET 11/13/23.

Any person desiring to protest in any the above proceedings must file in

accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2023.
Debbie-Anne A. Reese,
Deputy Secretary.

[FR Doc. 2023-24484 Filed 11-3-23; 8:45 am]

BILLING CODE 6717-01-P